DEPARTMENT OF HOMELAND SECURITY

Federal Emergency Management Agency

44 CFR Part 67

[Docket ID FEMA-2011-0002; Internal Agency Docket No. FEMA-B-1208]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before November 1, 2011

ADDRESSES: The corresponding preliminary Flood Insurance Rate Map (FIRM) for the proposed BFEs for each community is available for inspection at the community's map repository. The respective addresses are listed in the table below.

You may submit comments, identified by Docket No. FEMA-B-1208, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Chickasaw County, Iowa
Iowa | Unincorporated Areas of Chickasaw County | Little Cedar River (backwater effects from Cedar River) | Approximately 1,200 feet upstream of the Cedar River confluence | None | +962
|  |  | Approximately 100 feet upstream of Beumont Way | None | +962
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Chickasaw County
Maps are available for inspection at the Chickasaw County Courthouse, 8 East Prospect Street, New Hampton, IA 50659.
Unincorporated Areas of Mingo County, West Virginia
West Virginia | Unincorporated Areas of Mingo County | Mate Creek | Approximately 0.21 mile downstream of Norfolk & Western Railway (immediately downstream of County Route 9) | +707 | +706
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Mingo County
Maps are available for inspection at the Mingo County Floodplain Management Office, 75 East 2nd Avenue, Room 325, Williamson, WV 25661.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Lake County, Florida, and Incorporated Areas
Leesburg Tributary 1 | Approximately 1,225 feet downstream of the Flying Baron Estates Airport Runway | +66 | +64 | City of Leesburg, Unincorporated Areas of Lake County.
| At the downstream side of State Route 44 | None | +81
Leesburg Tributary 2 | Approximately 960 feet downstream of Youngs Road | +67 | +66 | City of Leesburg, Unincorporated Areas of Lake County.
| Approximately 105 feet upstream of West Main Street | None | +83
Leesburg Tributary 2-1 | At the Leesburg Tributary 2 confluence | +77 | +78 | City of Leesburg, Unincorporated Areas of Lake County.
| Approximately 1,410 feet upstream of the Leesburg Tributary 2 confluence | +77 | +78
Leesburg Tributary 3 | Approximately 1,550 feet downstream of Youngs Road | +64 | +65 | City of Leesburg, Unincorporated Areas of Lake County.
| Approximately 325 feet upstream of Youngs Road | +77 | +76
Multiple Ponding Areas | Area bound by Violet Avenue to the north, Royal Trails Road to the east, and Maggie Jones Road to the south and west | None | +42 | Unincorporated Areas of Lake County.
Multiple Ponding Areas | Area bound by Pandorea Avenue to the north, Greenbrier Street to the east, State Route 44 to the south, and Harbor Way to the west | None | +42 | Unincorporated Areas of Lake County.
Multiple Ponding Areas | Area bound by County Route 42 to the north, State Route 44 to the east and south, and County Route 439 to the west | None | +43 | Unincorporated Areas of Lake County.
Multiple Ponding Areas | Area bound by Alder Avenue to the north, Beach Road to the east, Poinciana Street to the south, and Royal Trails Road to the west | None | +44 | Unincorporated Areas of Lake County.
Multiple Ponding Areas | Area bound by Poinciana Street to the north and east, and Royal Trails Road to the south and west | None | +44 | Unincorporated Areas of Lake County.
Multiple Ponding Areas | Area bound by Clover Avenue to the north, Wildflower Way to the east, State Route 44 to the south, and Sunflower Street to the west | None | +44 | Unincorporated Areas of Lake County.
Multiple Ponding Areas | Area bound by Royal Trails Road to the north and east, Poinciana Street to the south, and Tamarac Street to the west | None | +44 | Unincorporated Areas of Lake County.
Multiple Ponding Areas | Area bound by Maggie Jones Road to the north, Royal Trails Road to the east, State Route 44 to the south, and Lake Norris Road to the west | None | +45 | Unincorporated Areas of Lake County.
Multiple Ponding Areas | Area bound by Division Street to the north, State Route 44 to the east and south, and Aspen Street to the west | None | +45 | Unincorporated Areas of Lake County.
Multiple Ponding Areas | Area approximately 665 feet northeast of the intersection of Royal Trails Road and Maggie Jones Road, bound by West Thyme Avenue to the north, Poinciana Street to the east, Red Oak Avenue to the south, and Royal Trails Road to the west | None | +45 | Unincorporated Areas of Lake County.
Multiple Ponding Areas | Area bound by Saffron Avenue to the north, State Route 44 to the east, and Royal Trails Road to the south and west | None | +45 | Unincorporated Areas of Lake County.
Multiple Ponding Areas | Area bound by Sawgrass Fill Road to the north, Royal Trails Road to the east, State Route 44 to the south, and Harbor Way to the west | None | +46 | Unincorporated Areas of Lake County.
Multiple Ponding Areas | Area bound by Hawthorn Avenue to the north, Alder Way to the east, and Poinciana Street to the south and west | None | +46 | Unincorporated Areas of Lake County.
Multiple Ponding Areas | Area bound by Apricot Avenue to the north, Fir Street to the east, Quince Avenue to the south, and Royal Trails Road to the west | None | +46 | Unincorporated Areas of Lake County.
Multiple Ponding Areas | Area bound by Tamarac Street to the north and west, Royal Trails Road to the east, and Violet Avenue to the south | None | +46 | Unincorporated Areas of Lake County.
Multiple Ponding Areas | Area bound by Royal Trails Road to the north and west, Viola Way to the east, and West Thyme Avenue to the south | None | +46 | Unincorporated Areas of Lake County.
Multiple Ponding Areas | Area bound by West Thyme Avenue to the north, Poinciana Street to the east, Hemlock Lane to the south, and Royal Trails Road to the west | None | +46 | Unincorporated Areas of Lake County.
Multiple Ponding Areas | Area bound by Bears Lane to the north, Flag Street to the east, Red Oak Avenue to the south, and Jericho Trail to the west | None | +47 | Unincorporated Areas of Lake County.
Multiple Ponding Areas | Area bound by West Thyme Avenue to the north, Poinciana Street to the east, and Maggie Jones Road to the south and west | None | +47 | Unincorporated Areas of Lake County.
Multiple Ponding Areas | Area approximately 0.4 mile northeast of the intersection of Royal Trails Road and Maggie Jones Road, bound by West Thyme Avenue to the north, Poinciana Street to the east, Red Oak Avenue to the south, and Royal Trails Road to the west | None | +47 | Unincorporated Areas of Lake County.
Multiple Ponding Areas | Area approximately 90 feet southeast of the intersection of Royal Trails Road and West Thyme Avenue, bound by West Thyme Avenue to the north, West Thyme Court to the east, Daffodil Avenue to the south, and Royal Trails Road to the west | None | +47 | Unincorporated Areas of Lake County.
Multiple Ponding Areas | Area bound by Quince Avenue to the north, Cashew Street to the east, Poinciana Street to the south, and Tamarac Street to the west | None | +47 | Unincorporated Areas of Lake County.
Multiple Ponding Areas | Area bound by Chinaberry Street to the north, Aspen Street to the east, Alder Avenue to the south, and Poinciana Street to the west | None | +48 | Unincorporated Areas of Lake County.
Multiple Ponding Areas | Area bound by Fullerville Road to the north, Cooter Pond Road to the east, Quince Avenue to the south, and Buck Run Drive to the west | None | +48 | Unincorporated Areas of Lake County.
Multiple Ponding Areas | Area bound by Quince Avenue to the north, Chinaberry Street to the east and south, and Royal Trails Road to the west | None | +48 | Unincorporated Areas of Lake County.
Multiple Ponding Areas | Area bound by Saffron Avenue to the north, Mango Street to the east, West Thyme Avenue to the south, and Royal Trails Road to the west | None | +48 | Unincorporated Areas of Lake County.
Multiple Ponding Areas | Area bound by Seagrape Avenue to the north, Apricot Avenue to the east and south, and Honeysuckle Street to the west | None | +49 | Unincorporated Areas of Lake County.
Multiple Ponding Areas | Area bound by Saffron Avenue to the north, Chinaberry Street to the east and south, and Royal Trails Road to the west | None | +49 | Unincorporated Areas of Lake County.
Multiple Ponding Areas | Area bound by Saffron Avenue to the north, Mango Street to the east, Alder Avenue to the south, and Poinciana Street to the west | None | +49 | Unincorporated Areas of Lake County.
Multiple Ponding Areas | Area bound by West Thyme Avenue to the north, Aspen Street to the east, Red Oak Avenue to the south, and Royal Trails Road to the west | None | +49 | Unincorporated Areas of Lake County.
Multiple Ponding Areas | Area bound by East Thyme Avenue to the north, Aspen Street to the east, Alder Avenue to the south, and Poinciana Street to the west | None | +49 | Unincorporated Areas of Lake County.
Multiple Ponding Areas | Area bound by Almond Tree Lane to the north, Aspen Street to the east, East Thyme Avenue to the south, and Datura Street to the west | None | +50 | Unincorporated Areas of Lake County.
Multiple Ponding Areas | Area bound by Quince Avenue to the north, Chinaberry Street to the east, Kumquat Avenue to the south, and Cashew Street to the west | None | +50 | Unincorporated Areas of Lake County.
Multiple Ponding Areas | Area bound by Quince Avenue to the north, West Lake Road to the east, Chinaberry Street to the south, and Cashew Street to the west | None | +53 | Unincorporated Areas of Lake County.
Ponding Area | Area bound by Royal Trails Road to the north and east, Tamarac Street to the south, and Maggie Jones Road to the west | None | +38 | Unincorporated Areas of Lake County.
Ponding Area | Area approximately 575 feet southwest of the intersection of Tamarac Street and Violet Avenue, bound by Fullerville Road to the north, Royal Trails Road to the east, and Maggie Jones Road to the south and west | None | +39 | Unincorporated Areas of Lake County.
Ponding Area | Area approximately 470 feet southwest of the intersection of Tamarac Street and Violet Avenue, bound by Fullerville Road to the north, Royal Trails Road to the east, and Maggie Jones Road to the south and west | None | +40 | Unincorporated Areas of Lake County.
Ponding Area | Area bound by Royal Trails Road to the north and east, Saffron Avenue to the south, and Maggie Jones Road to the west | None | +41 | Unincorporated Areas of Lake County.
Ponding Area | Area approximately 340 feet southwest of the intersection of Tamarac Street and Violet Avenue, bound by Fullerville Road to the north, Royal Trails Road to the east, and Maggie Jones Road to the south and west | None | +41 | Unincorporated Areas of Lake County.
Ponding Area | Area bound by Poinciana Street to the north and west, Holly Branch Road to the east, and Steward Road to the south | None | +41 | Unincorporated Areas of Lake County.
Ponding Area | Area bound by Pandorea Avenue to the north, Clover Street to the east, State Route 44 to the south, and Lantana Street to the west | None | +43 | Unincorporated Areas of Lake County.
Ponding Area | Area bound by Larkspur Avenue to the north, State Route 44 to the east and south, and Rabanal Trail to the west | None | +43 | Unincorporated Areas of Lake County.
Ponding Area | Area bound by Rory Lane to the north, State Route 44 to the east and south, and Poinciana Street to the west | None | +44 | Unincorporated Areas of Lake County.
Ponding Area | Area bound by Maggie Jones Road to the north, Royal Trails Road to the east, Red Oak Avenue to the south, and Back Forty Road to the west | None | +44 | Unincorporated Areas of Lake County.
Ponding Area | Area bound by Tamarac Street to the north, Violet Avenue to the east, Royal Trails Road to the south, and Maggie Jones Road to the west | None | +44 | Unincorporated Areas of Lake County.
Ponding Area | Area bound by Royal Trails Road to the north and east, State Route 44 to the south, and Wildflower Way to the west | None | +45 | Unincorporated Areas of Lake County.
Ponding Area | Area bound by Cinnamon Avenue to the north, Fir Street to the east, and Royal Trails Road to the south and west | None | +45 | Unincorporated Areas of Lake County.
Ponding Area | Area bound by Saffron Avenue to the north, Royal Trails Road to the east, Poinciana Street to the south, and Tamarac Street to the west | None | +45 | Unincorporated Areas of Lake County.
Ponding Area | Area bound by Ixora Avenue to the north, Bamboo Street to the east, Lupine Avenue to the south, and Windward Avenue to the west | None | +46 | Unincorporated Areas of Lake County.
Ponding Area | Area bound by Yucca Avenue to the north, Jericho Trail to the east, Pandorea Avenue to the south, and Windward Avenue to the west | None | +46 | Unincorporated Areas of Lake County.
Ponding Area | Area bound by Primrose Lane to the north, Poinciana Street to the east, Red Oak Avenue to the south, and Royal Trails Road to the west | None | +46 | Unincorporated Areas of Lake County.
Ponding Area | Area bound by Red Oak Avenue to the north and east, and Royal Trails Road to the south and west | None | +46 | Unincorporated Areas of Lake County.
Ponding Area | Area bound by Red Oak Avenue to the north, Pandorea Avenue to the east and south, and Jericho Trail to the west | None | +46 | Unincorporated Areas of Lake County.
Ponding Area | Area bound by West Veronica Avenue to the north, Apple Street to the east, Alder Avenue to the south, and Alder Court to the west | None | +46 | Unincorporated Areas of Lake County.
Ponding Area | Area bound by Aster Court to the north and west, Royal Trails Road to the east, and Redgum Court to the south | None | +46 | Unincorporated Areas of Lake County.
Ponding Area | Area bound by Division Street to the north, Dahlia Street to the east, Nutmeg Avenue to the south, and Abele Street to the west | None | +46 | Unincorporated Areas of Lake County.
Ponding Area | Area bound by Coconut Avenue to the north, Wildflower Way to the east, State Route 44 to the south, and Sunflower Street to the west | None | +47 | Unincorporated Areas of Lake County.
Ponding Area | Area approximately 1,025 feet southeast of the intersection of Royal Trails Road and Greenbrier Street, bound by Royal Trails Road to the north and east, Wildflower Way to the south, and Greenbrier Street to the west | None | +47 | Unincorporated Areas of Lake County.
Ponding Area | Area bound by Hemlock Lane to the north, Poinciana Street to the east, Primrose Lane to the south, and Royal Trails Road to the west | None | +47 | Unincorporated Areas of Lake County.
Ponding Area | Area bound by Hawthorn Avenue to the north, Alder Way to the east, Alder Avenue to the south, and Poinciana Street to the west | None | +47 | Unincorporated Areas of Lake County.
Ponding Area | Area bound by Chinaberry Street to the north, Persimmon Street to the east, Hawthorn Avenue to the south, and Poinciana Street to the west | None | +47 | Unincorporated Areas of Lake County.
Ponding Area | Area bound by East Veronica Avenue to the north, Rabanal Trail to the east, Scrub Oak Lane to the south, and Poinciana Street to the west | None | +47 | Unincorporated Areas of Lake County.
Ponding Area | Area approximately 580 feet southeast of the intersection of Royal Trails Road and Greenbrier Street, bound by Royal Trails Road to the north and east, Wildflower Way to the south, and Greenbrier Street to the west | None | +48 | Unincorporated Areas of Lake County.
Ponding Area | Area approximately 370 feet southeast of the intersection of Royal Trails Road and West Thyme Avenue, bound by West Thyme Avenue to the north, West Thyme Court to the east, Daffodil Avenue to the south, and Royal Trails Road to the west | None | +48 | Unincorporated Areas of Lake County.
Ponding Area | Area bound by Saffron Avenue to the north, West Saffron Court to the east, Poinciana Street to the south, and Royal Trails Road to the west | None | +48 | Unincorporated Areas of Lake County.
Ponding Area | Area bound by Poinciana Street to the north and east, Viola Way to the south, and Royal Trails Road to the west | None | +49 | Unincorporated Areas of Lake County.
Ponding Area | Area bound by Fullerville Road to the north, Jewell Drive to the east, Seagrape Avenue to the south, and Redlands Drive to the west | None | +49 | Unincorporated Areas of Lake County.
Ponding Area | Area bound by Fullerville Road to the north, Bear Lake Boulevard to the east, Seagrape Avenue to the south, and Buck Run Drive to the west | None | +49 | Unincorporated Areas of Lake County.
Ponding Area | Area bound by Saffron Avenue to the north, West Saffron Court to the west, Vitex Avenue to the south, and Royal Trails Road to the west | None | +49 | Unincorporated Areas of Lake County.
Ponding Area | Area bound by Eddy Lane to the north, Cassia Street to the east, Nutmeg Avenue to the south, and Aspen Street to the west | None | +49 | Unincorporated Areas of Lake County.
Ponding Area | Area bound by Vitex Avenue to the north, Aspen Street to the east, West Thyme Avenue to the south, and Poinciana Street to the west | None | +50 | Unincorporated Areas of Lake County.
Ponding Area | Area bound by Kumquat Avenue to the north, Chinaberry Street to the east and south, and Cashew Street to the west | None | +50 | Unincorporated Areas of Lake County.
Ponding Area | Area bound by Seagrape Avenue to the north, Jewell Drive to the east, Tulip Avenue to the south, and Apricot Avenue to the west | None | +50 | Unincorporated Areas of Lake County.
Ponding Area | Area bound by East Veronica Avenue to the north, Aspen Street to the east, Alder Avenue to the south, and Balsam Street to the west | None | +51 | Unincorporated Areas of Lake County.
Ponding Area | Area bound by East Thyme Avenue to the north, Rabanal Trail to the east, East Veronica Avenue to the south, and Aspen Street to the west | None | +51 | Unincorporated Areas of Lake County.
Ponding Area | Area bound by Verano Drive to the north, Jewell Drive to the east, Buck Lake Road to the south, and Apricot Avenue to the west | None | +51 | Unincorporated Areas of Lake County.
Ponding Area | Area bound by Buck Lake Road to the north, Saint Claire Lake Drive to the east and south, and Chinaberry Street to the west | None | +51 | Unincorporated Areas of Lake County.
Ponding Area | Area bound by Seagrape Avenue to the north, Fir Street to the east, Quince Avenue to the south, and Royal Trails Road to the west | None | +51 | Unincorporated Areas of Lake County.
Ponding Area | Area bound by Vitex Avenue to the north, Shady Rose Court to the east, West Thyme Avenue to the south, and Poinciana Street to the west | None | +52 | Unincorporated Areas of Lake County.
Ponding Area | Area bound by Chinaberry Street to the north, Ash Avenue to the east, East Thyme Avenue to the south, and Kumquat Avenue to the west | None | +52 | Unincorporated Areas of Lake County.
Ponding Area | Area bound by Nutmeg Avenue to the north, Dahlia Street to the east, East Thyme Avenue to the south, and Aspen Street to the west | None | +52 | Unincorporated Areas of Lake County.
Ponding Area | Area bound by Saffron Avenue to the north, West Lake Road to the east, East Thyme Avenue to the south, and Chinaberry Street to the west | None | +54 | Unincorporated Areas of Lake County.
Ponding Area | Area bound by Nutmeg Avenue to the north, Locust Street to the east, Larkspur Avenue to the south, and Dahlia Street to the west | None | +54 | Unincorporated Areas of Lake County.
Ponding Area | Area bound by Quince Avenue to the north, Saint Claire Lake Drive to the east, Saffron Avenue to the south, and Chinaberry Street to the west | None | +55 | Unincorporated Areas of Lake County.
Ponding Area | Area bound by Tulip Avenue to the north, Saint Claire Lake Drive to the east, Quince Avenue to the south, and Chinaberry Street to the west | None | +56 | Unincorporated Areas of Lake County.
Ponding Area D2L | Area bound by South Old Dixie Highway to the north and east, Shiloh Avenue to the south, and Arlington Avenue to the west | +71 | +74 | Town of Lady Lake.
St. Johns River | Approximately 2.1 miles upstream of State Route 40 | +6 | +7 | Unincorporated Areas of Lake County.
| Approximately 2.6 miles upstream of State Route 44 | +6 | +7
Vista Lake | Entire shoreline within community | +108 | +106 | Unincorporated Areas of Lake County.
Wolf Branch | Approximately 0.9 mile downstream of Wolf Branch Road | +84 | +83 | City of Mount Dora, Unincorporated Areas of Lake County.
| Approximately 645 feet upstream of Country Club Boulevard | +166 | +168
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Leesburg
Maps are available for inspection at the Public Works Department, 550 South 14th Street, Leesburg, FL 34748.
City of Mount Dora
Maps are available for inspection at the Building and Zoning Department, 510 North Baker Street, Mount Dora, FL 32757.
Town of Lady Lake
Maps are available for inspection at the Town Hall, 409 Fennell Boulevard, Lady Lake, FL 32159.
Unincorporated Areas of Lake County
Maps are available for inspection at the Lake County Public Works Department, 437 Ardice Avenue, Eustis, FL 32726.
Lafayette Parish, Louisiana, and Incorporated Areas
Anselm Coulee | At the upstream side of the Vermillion River confluence | None | +14 | City of Youngsville.
| At the downstream side of the Isaac Verot Coulee confluence | None | +24
Coulee Des Poches | At the Vermillion River confluence | +17 | +18 | City of Lafayette, Unincorporated Areas of Lafayette Parish.
| Approximately 125 feet upstream of South Pacific Railroad | +27 | +28
Coulee Lasalle | Approximately 0.3 mile downstream of Le Triomphe Parkway | None | +24 | Town of Broussard, City of Youngsville.
| Approximately 0.9 mile upstream of Cane Brake Road | None | +25
Coulee Mine | At the Vermillion River confluence | +16 | +17 | Unincorporated Areas of Lafayette Parish.
| At the downstream side of Malapart Road | None | +46
Isaac Verot Coulee | At the Vermillion River confluence | +15 | +16 | City of Lafayette, Unincorporated Areas of Lafayette Parish.
| At the upstream side of the Anselm Coulee confluence | None | +24
Isaac Verot Coulee—Lateral 2 | At the Isaac Verot Coulee confluence | None | +24 | Town of Broussard.
| At the downstream side of State Highway 89 | None | +36
Vermillion River | Approximately 600 feet upstream of the Anselm Coulee confluence | +14 | +15 | City of Lafayette.
| Approximately 1.5 miles upstream of State Highway 726 | +22 | +21
Webb Coulee Lower Reach | Approximately 0.75 mile upstream of the Vermillion River confluence | +15 | +16 | City of Lafayette, Unincorporated Areas of Lafayette Parish.
| At the Jupiter Street Coulee confluence | +30 | +27
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Lafayette
Maps are available for inspection at 705 West University Avenue, Lafayette, LA 70506.
City of Youngsville
Maps are available for inspection at 305 Iberia Street, Youngsville, LA 70592.
Town of Broussard
Maps are available for inspection at 416 East Main Street, Broussard, LA 70518.
Unincorporated Areas of Lafayette Parish
Maps are available for inspection at 101 East Cypress Street, Lafayette, LA 70501.
Alcona County, Michigan (All Jurisdictions)
Lake Huron | Entire shoreline within community | None | +583 | City of Harrisville, Township of Alcona, Township of Harrisville, Township of Haynes.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Harrisville
Maps are available for inspection at City Hall, 200 5th Street, Harrisville, MI 48740.
Township of Alcona
Maps are available for inspection at the Alcona Township Hall, 5576 North U.S. Route 23, Black River, MI 48721.
Township of Harrisville
Maps are available for inspection at the Township Hall, 114 South Poor Farm Road, Harrisville, MI 48740.
Township of Haynes
Maps are available for inspection at the Haynes Township Hall, 3930 East McNeill Road, Lincoln, MI 48742.
Menominee County, Michigan (All Jurisdictions)
Green Bay | Entire shoreline within community | +584 | +585 | City of Menominee, Township of Cedarville, Township of Ingallston, Township of Menominee.
Menominee River | At the Green Bay confluence | +584 | +585 | City of Menominee.
| Approximately 700 feet downstream of Canadian National Railway | +584 | +585
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Menominee
Maps are available for inspection at City Hall, 2511 10th Street, Menominee, MI 49858.
Township of Cedarville
Maps are available for inspection at the Cedarville Township Hall, Old Mill Road and M-35, Cedar River, MI 49887.
Township of Ingallston
Maps are available for inspection at the Ingallston Township Hall, W3790 Town Hall Lane No. 13.5, Wallace, MI 49893.
Township of Menominee
Maps are available for inspection at the Township Hall, N2283 O1 Drive, Menominee, MI 49858.
Blue Earth County, Minnesota, and Incorporated Areas
Blue Earth River | At the Minnesota River confluence | +785 | +783 | City of Mankato, City of Skyline, Unincorporated Areas of Blue Earth County.
| Approximately 0.5 mile downstream of Hawthorn Road | None | +785
County Ditch 56 | At the Lake Crystal confluence | None | +973 | City of Lake Crystal, Unincorporated Areas of Blue Earth County.
| Approximately 0.7 mile upstream of County Highway 9 | None | +979
Minnesota River | At the upstream side of the Le Sueur County boundary | +769 | +768 | City of Mankato, Unincorporated Areas of Blue Earth County.
| Approximately 2.5 miles upstream of 480th Lane | +804 | +805
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Lake Crystal
Maps are available for inspection at City Hall, 100 East Robinson Street, Lake Crystal, MN 56055.
City of Mankato
Maps are available for inspection at the Intergovernmental Center, 10 Civic Center Plaza, Mankato, MN 56001.
City of Skyline
Maps are available for inspection at City Hall, 23 Skyline Drive, Mankato, MN 56001.
Unincorporated Areas of Blue Earth County
Maps are available for inspection at the Blue Earth County Environmental Department, 410 South 5th Street, Mankato, MN 56001.
Jasper County, Missouri, and Incorporated Areas
Brownell West | At the Silver Creek Tributary 2 confluence | None | +1011 | City of Joplin.
| At the downstream side of East 32nd Street | None | +1025
Center Creek Tributary 28 (backwater effects from Center Creek) | From approximately 500 feet upstream of the Center Creek confluence to approximately 1,012 feet upstream of the Center Creek confluence | None | +852 | Unincorporated Areas of Jasper County.
Eagle Picher Creek | Approximately 1,010 feet upstream of Northwest Murphy Boulevard | None | +959 | City of Joplin.
| Approximately 75 feet downstream of West 2nd Street | None | +989
Eagle Picher Creek Tributary 1 | At the Eagle Picher Creek confluence | None | +978 | City of Joplin.
| Approximately 81 feet downstream of North Maiden Lane | None | +991
Silver Creek Tributary 2 | Approximately 776 feet upstream of the Silver Creek confluence | +986 | +988 | City of Joplin.
| Approximately 77 feet downstream of East 32nd Street | None | +1021
Swifty Creek | Approximately 114 feet upstream of I-44 | +1088 | +1086 | City of Sarcoxie, Unincorporated Areas of Jasper County.
| Approximately 500 feet upstream of 5th Street | +1097 | +1099
Tin Cup Creek | Approximately 289 feet upstream of 32nd Street | +974 | +973 | City of Joplin.
| Approximately 178 feet upstream of West 30th Street | None | +988
Turkey Creek Tributary 3 (overflow effects from Turkey Creek) | At the Turkey Creek confluence | +994 | +995 | City of Joplin, Village of Duquesne.
| Approximately 1,941 feet downstream of I-44 | None | +997
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Joplin
Maps are available for inspection at City Hall, 602 South Main Street, Joplin, MO 64801.
City of Sarcoxie
Maps are available for inspection at City Hall, 111 North 6th Street, Sarcoxie, MO 64862.
Unincorporated Areas of Jasper County
Maps are available for inspection at the Jasper County Courthouse, 302 South Main Street, Carthage, MO 64836.
Village of Duquesne
Maps are available for inspection at City Hall, 1501 South Duquesne Road, Duquesne, MO 64802.

(Catalog of Federal Domestic Assistance No. 97.022, “Flood Insurance.”)

Dated: July 22, 2011.
Sandra K. Knight,
Deputy Federal Insurance and Mitigation Administrator, Mitigation, Department of Homeland Security, Federal Emergency Management Agency.

[FR Doc. 2011-19549 Filed 8-2-11; 8:45 am]

BILLING CODE 9110-12-P